DEPARTMENT OF AGRICULTURE

Submission for OMB Review; Comment Request

April 21, 2003.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Business-Cooperative Service

Title: National Rural Development Partnership.

OMB Control Number: 0570-0043.

Summary of Collection: The Farm Security and Rural Investment Act of 2002 authorized the Secretary of the Department of Agriculture to continue the National Rural Development Partnership (NRDP). The objective of the National Rural Development Partnership is to facilitate the establishment and recognition of one State Rural Development Council (SRDCs) per state. The statue requires that membership of the SRDC is responsible for the governance and operations of the SRDC and that the applicant has matching funds available, or in-kind goods and services to support the activities of the SRDC. SRDCs are members of the NRDP.

Need and Use of the Information: The information collected is used to confirm that an applicant meet the eligibility requirements. The following items: Description of Council, copies of organizational documents and rules of governance, membership list, policy statement regarding operations, summary profile of state, and evidence of matching funds are required in the application package and is necessary for USDA to verify eligibility. Without this information, USDA cannot assure that new or existing SRDCs meet the statutory requirements for eligibility.

Description of Respondents: Not-for-profit institutions; Business or other for-profit; Farms; Individuals or households; Federal Government; State, Local or Tribal Government.

Number of Respondents: 50.

Frequency of Responses: Reporting: Annually.

Total Burden Hours: 300.

Rural Utility Service

Title: 7 CFR part 1755, Telecommunications Standards and Specifications.

OMB Control Number: 0572-NEW.

Summary of Collection: 7 CFR part 1755 establishes Agency policy that materials and equipment purchased by Rural Utility Service (RUS) telecommunications borrowers or accepted as contractor-furnished material must conform to RUS standards and specifications where they have been established and, if included in RUS IP 344-02, “List of Materials Acceptable for Use on Telecommunications System of RUS Borrowers”, must be selected from that list or must have received technical acceptance from RUS. To protect the security of loans it makes and to ensure that the telecommunications services provided to rural Americans are comparable to those offered in urban and suburban areas, RUS establishes the minimum acceptable performance criteria for materials and equipment to be employed on telecommunications system financed by RUS. Manufacturers wishing to sell their products to RUS borrowers, request RUS' consideration for acceptance of their products and submit data demonstrating their products' compliance with RUS specification.

Need and Use of the Information: RUS will evaluate the data to determine that the quality of the products is acceptable and that their use will not jeopardize loan security. The information is closely reviewed to be certain that test data, product dimensions and product material compositions fully comply with RUS technical standards and specifications that have been established for the particular product.

Description of the Respondents: Business or other for-profit; Not-for-profit institutions.

Number of Respondents: 60.

Frequency of Responses: Reporting: On occasion.

Total Burden Hours: 2020.

Forest Service

Title: Urgent Removal of Timber.

OMB Control Number: 0596-0167.

Summary of Collection: Periodically, catastrophic events such as severe drought conditions, insect and disease outbreaks, wildfires, floods, and wind throw occur on forested lands within, or near, National Forest System lands. As a result of such catastrophic events, substantial amounts of private and other public timber may be severely damaged. The damaged timber must be harvested within a relatively short time period to avoid substantial losses in both the quantity and quality of the timber due to deterioration. The critical time period available for harvesting this damaged timber and avoiding substantial deterioration varies with the season of the year, the species of timber, the damaging agent, and the location of the damaged timber. The National Forest Management Act of 1976 (16 U.S.C. 472a) provides that timber sale contracts with an original term of 2 years or more may not be extended unless there is a finding that substantial overriding public interest justifies an extension.

Need and Use of the Information: The Forest Service (FS) will collect information to verify that: (a) A specific catastrophe occurred and identifies the particular geographic area which was affected for which urgent removal extensions may be granted; (b) there is a high risk that substantial timber quantities or values of the damaged non-National Forest System timber in the affected geographic area would deteriorate unless urgently removed; (c) the manufacturing facilities and/or logging equipment capacity available to purchasers are insufficient to provide for both the rapid harvest of damaged non-National Forest System timber in need of urgent removal and the continued harvest of undamaged National Forest System timber under contract with the FS; (d) failure to harvest the damaged non-National Forest System timber promptly may result in significant public or private resource loss, pose a threat to public safety, or create a threat of an insect and/or disease epidemic to National Forest System, other public, or private lands or resources.

Description of Respondents: Business or other for-profit; Individuals or households; Federal Government; State, Local or Tribal Government.

Number of Respondents: 25.

Frequency of Responses: Reporting: On occasion.

Total Burden Hours: 50.

Rural Business Service

Title: 7 CFR 4287-B, “Servicing Business and Industry Guaranteed Loans.

OMB Control Number: 0570-0016.

Summary of Collection: The Business and Industry (B&I) program was legislated in 1972 under section 310B of the Consolidated Farm and Rural Development Act, as amended (the Act). The purpose of the B&I program, as authorized by the Act, is to improve economic and environmental climate in rural communities, including pollution abatement and control. This purpose is achieved through bolstering the existing private credit structure through the guaranteeing of quality loans, which will provide lasting community benefits. The B&I program is administered by the Rural Business Service (RBS) through Rural Development State and sub-State offices serving each State. RBS will collect information using various forms from the lender and the borrower. This information is vital for making prudent financial decisions.

Need and Use of the Information: RBS will collect information to monitor the guaranteed loan portfolio to ensure that the lenders are adequately servicing the loans. RBS through its respective Business Programs Divisions in Washington, DC and its 47 State Offices throughout the United States will be the primary users of the information collected. If the information is not collected, RBS would not be able to make prudent credit decisions nor would the Agency be able to effectively monitor the lender's servicing activities and thus minimize losses under the program.

Description of Respondents: Business or other for-profit; State, Local or Tribal Government.

Number of Respondents: 12,430.

Frequency of Responses: Reporting: On occasion; Quarterly; Annually.

Total Burden Hours: 16,860.

Rural Business Service

Title: 7 CFR 4279-B, Guaranteed Loan Making—Business and Industry Loans.

OMB Control Number: 0570-0017.

Summary of Collection: The Business and Industry (B&I) program was legislated in 1972 under section 310B of the Consolidated Farm and Rural Development Act, as amended. The purpose of the program is to improve, develop, or finance businesses, industries, and employment and improve the economic and environmental climate in rural communities. This purpose is achieved through bolstering the existing private credit structure through the guaranteeing of quality loans made by lending institutions, thereby providing lasting community benefits. The B&I program is administered by the Rural Business Service (RBS) through Rural Development State and sub-State offices serving each State.

Need and Use of the Information: RBS will collect information to determine a lender and borrower eligibility and creditworthiness. The information is used by RBS loan officers and approval officials to determine program eligibility and for program monitoring.

Description of Respondents: Business or other for-profit; State, Local or Tribal Government; Farms; Not-for-profit institutions.

Number of Respondents: 8,544.

Frequency of Responses: Reporting: On occasion.

Total Burden Hours: 20,561.

Rural Business Service (RBS)

Title: 7 CFR 4279-A, Guaranteed Loanmaking General.

OMB Control Number: 0570-0018.

Summary of Collection: The Business and Industry (B&I) program was legislated in 1972 under Section 310B of the Consolidated Farm and Rural Development Act, as amended. The purpose of the program is to improve, develop, or finance businesses, industries, and employment and improve the economic and environmental climate in rural communities. This purpose is achieved through bolstering the existing private credit structure through the guaranteeing of quality loans made by lending institutions, thereby providing lasting community benefits. The B&I program is administered by the RBS through Rural Development State and sub-State offices serving each state.

Need and Use of the Information: RBS will collect information to determine eligibility and credit worthiness for a lender or borrower. The information is used by Agency loan officers and approval officials to determine lender program eligibility and for program monitoring.

Description of Respondents: Business or other for-profit; State, Local or Tribal Government; Farms; Not-for-profit institutions.

Number of Respondents: 1,037.

Frequency of Responses: Reporting: On occasion.

Total Burden Hours: 1,494.

Rural Utilities Service

Title: Financial and Statistical Report for Telephone Borrowers.

OMB Control Number: 0572-0031.

Summary of Collection: The Rural Utilities Service's (RUS) is a credit agency of the Department of Agriculture. The department makes mortgage loans and loan guarantees to finance electric, telecommunications and water and waste facilities in rural areas. In addition to providing loans and loan guarantees, one of RUS' main objectives is to safeguard loan security until the loan is repaid. The RE Act (7 U.S.C. 901 et seq) authorizes the Administrator to make loans for the purpose of providing telephone service to the widest practicable number of rural subscribes. The RE Act also authorizes the Administrator to make studies, investigations, and reports concerning the progress of borrowers' furnishing of adequate telephone service and publish and disseminate this information.

Need and Use of the Information: RUS will use Form 479, “Financial and Statistical Report for Telephone Borrowers”. This form provides RUS with (1) vital financial information needed to ensure the maintenance and security of the Government's loans, and (2) statistical data that enables RUS to ensure the provision of quality telephone service as mandated by the Rural Electrification Act of 1936, as amended (RE Act). In addition, RUS will collect information on toll revenues of telephone systems, loan feasibility to assure the loan can be repaid and use this data to compile the agency's Annual Statistical Report. These functions are essential to protect loan security and to achieve the objectives of the RE Act.

Description of Respondents: Business or other for-profit; Not-for-profit institutions.

Number of Respondents: 725.

Frequency of Responses: Reporting: Annually.

Total Burden Hours: 2,900.

Rural Utilities Service

Title: RUS Specification for quality control and Inspection of Timber Products.

OMB Control Number: 0572-0036.

Summary of Collection: The Rural Utilities Service (RUS) is a credit agency of the U.S. Department of Agriculture (USDA). It makes mortgage loans and loan guarantees to finance electric, telecommunications, and water and waste facilities in rural areas. Loan programs are managed in accordance with the Rural Electrification Act (RE Act) of 1936, 7 U.S.C. 901 et seq., as amended.

Need and Use of the Information: RUS will use the information in verifying acceptability of poles and crossarms purchased by RUS borrowers. Each year, RUS borrowers are required to submit an Annual Summary of Purchases that provides a list of plants from which it obtained poles or crossarms during the preceding calendar year and Treaters must provide notification that they will treat poles for the upcoming year. Test reports are needed so that the purchaser, the inspectors, and RUS will be able to spot-check the general accuracy of the tests.

Description of the Respondents: Business or other for-profit; Not-for-profit institutions.

Number of Respondents: 700.

Frequency of Responses: Reporting: On occasion.

Total Burden Hours: 40,763.

Rural Utilities Service

Title: 7 CFR 1744-E, Borrower Investments—Telecommunications Loan Program.

OMB Control Number: 0572-0098.

Summary of Collection: The Rural Economic Development Act of 1990, Title XXIII of the Farm Bill, Pub. L. 101-624, authorized qualified Rural Utilities Service (RUS) borrowers to make investments in rural development projects without the prior approval of the RUS Administrator, provided, however that such investments do not cause the borrower to exceed its allowable qualified investment level as determined in accordance with the procedures set forth in 7 CFR part 1744, Subpart E. RUS requests that the borrower submit (1) a description of the rural development project and type of investment; (2) a reasonable estimate of the amount the borrower is committed to provide to the project including future expenditures; and (3) a pro forma balance sheet and cash flow statement for the period covering the borrower's future commitments to determine that the “excess” or proposed “excess” investments will not impair the borrower's ability to repay the loan or cause financial hardship.

Need and Use of the Information: RUS will collect information to consider whether or not to approve a borrower's request to make an investment in a rural development project when such an investment would cause the borrower to exceed its allowable investment level. If this information was not collected, RUS could not thoroughly assess the economic impact of such an investment.

Description of Respondents: Business or other for-profit; Not-for-profit institutions.

Number of Respondents: 25.

Frequency of Responses: Reporting: On occasion.

Total Burden Hours: 238.

Rural Housing Service

Title: 7 CFR 1944-I, “Self-Help Technical Assistance Grants”.

OMB Control Number: 0575-0043.

Summary of Collection: This regulation prescribes policies and responsibilities, including the collection and use of information, necessary to administer the Section 523 Mutual and Self-Help housing (MSH) program. The MSH program affords low-income families the opportunity for home ownership by providing funds to non-profit organizations for supervisory and technical assistance to the homebuilding families. Rural Housing Service (RHS) will collect information from non-profit organizations that want to develop a Self-Help program in their area to increase the availability of affordable housing. The information is collected at the local, district and state levels. The information requested by RHS includes financial and organizational information about the non-profit organization.

Need and Use of the Information: RHS needs this information to determine if the organization is capable of successfully carrying out the requirements of the Self-Help program. The information is collected on an as requested or needed basis. RHS has reviewed the program's need for the collection of information versus the burden placed on the public.

Description of Respondents: State, Local or Tribal Government; Not-for-profit institutions.

Number of Respondents: 160.

Frequency of Responses: Recordkeeping; Reporting: Monthly, Annually.

Total Burden Hours: 4,372.

Rural Housing Service

Title: 7 CFR 1951-E, “Servicing of Community and Direct Business Programs Loans and Grants”.

OMB Control Number: 0575-0066.

Summary of Collection: Rural Development (including Farm Credit Programs of the Farm Service Agency), hereinafter referred to as Agency, is the credit agency for agricultural and rural development for the Department of Agriculture. The Agency offers supervised credit to build and operate family farms, modest housing, water and sewer systems, essential community facilities, and business and industrial operations in rural areas. Section 331 and 335 of the Consolidated Farm and Rural Development Act, as amended, authorize the Secretary of Agriculture, acting through the Agency, to establish provisions for security servicing policies for the loans and grants in questions. If there is a problem which exists, a recipient of the loan, grant, or loan guarantee must furnish financial information which is used to aid in resolving the problem through reamortization, sale, transfer, debt restructuring, liquidation, or other means provided in the regulations.

Need and Use of the Information: RHS will collect information to determine applicant/borrower eligibility and project feasibility for various servicing actions. The information enables field staff to ensure that borrowers operate on a sound basis and use loan and grant funds for authorized purposes.

Description of Respondents: State, Local or Tribal Government; Not-for-profit institutions.

Number of Respondents: 275.

Frequency of Responses: Reporting: On occasion.

Total Burden Hours: 932.

Agricultural Marketing Service

Title: Application for Plant Variety Protection Certificate and Objective Description of Variety.

OMB Control Number: 0581-0055.

Summary of Collection: The Plant Variety Protection Act (PVPA, was approved December 24, 1970; 84 Stat. 1542, 7 U.S.C. 2321 et seq.) was established to encourage the development of novel varieties of sexually-reproduced plants and make them available to the public, providing intellectual property rights (IPR) protection to those who breed, develop, or discover such novel varieties, and thereby promote progress in agriculture in the public interest. The PVPA is a voluntary user funded program that grants intellectual property ownership rights to breeders of new and novel seed- and tuber-reproduced plant varieties. To obtain these rights the applicant must provide information that shows the variety is eligible for protection and that it is indeed new, distinct, uniform, and stable, as the law requires. Applicants are provided with applications to identify the information that is required to issue a certificate of protection.

Need and Use of the Information: AMS will collect information from the applicant to determine if the variety is eligible for protection under the PVPA. If this information is not collected, applicants would not be able to obtain the protection that the PVPA is intended to provide.

Description of Respondents: Business or other for-profit; Not-for-profit institutions; Federal Government.

Number of Respondents: 129.

Frequency of Responses: Reporting: On occasion.

Total Burden Hours: 1,283.

Forest Service

Title: Forest Land Enhancement Program.

OMB Control Number: 0596-NEW.

Summary of Collection: The Forest Land Enhancement Program (FLEP) is authorized in the Farm Security and Rural Investment Act of 2002 (Public Law 107-711) through an amendment to the Cooperative Forestry Assistance Act (16 U.S.C. 2103). The goals of FLEP are to: (1) Enhance the productivity of timber, fish and wildlife habitat, soil and water quality, wetland, recreational resources and aesthetic values of private non-industrial private forestland; and (2) establish, manage, maintain, enhance, and restore such forests. The act requires establishing a grants program to achieve sustainable forestry; assist owners of non-industrial private forestlands to more actively manage these lands and related resources; and encourage such owners to use State, Federal, and private sector resource management expertise, financial assistance and educational programs. Through FLEP, States can cost-share up to 75% to implement eligible forest management practices on non-industrial private forest ownerships. In order to be eligible for cost-share, landowners must have a forest management plan that has been approved by their State forester.

Need and Use of the Information: The Forest Service (FS) will collect information to describe how the program will be implemented in each State. The plans must (1) describe how the State will allocate FLEP funding among the four major categories of administration, resource management expertise, education, and financial assistance; (2) describe how cost-share funds shall be made available to eligible participants; (3) describe ownership and acreage limitations; (4) define what constitutes a forest management plan; (5) identify landowner payment limitations; (6) identify eligible cost-share practices; (7) describe how funds may be distributed to participants; and (8) describe program application and reimbursement processes. If these information collection requirements were not implemented, it would be virtually impossible to provide proper Federal oversight for the new program.

Description of Respondents: State, Local or Tribal Government; Individuals or households; Farms.

Number of Respondents: 8,418.

Frequency of Responses: Recordkeeping; Reporting: Semi-annually; Annually.

Total Burden Hours: 54,747.

Sondra A. Blakey,
Departmental Information Collection Clearance Officer.

[FR Doc. 03-10223 Filed 4-24-03; 8:45 am]

BILLING CODE 3410-01-P